DEPARTMENT OF THE INTERIOR

Fish and Wildlife Service

Oregon Parks and Recreation Department Habitat Conservation Plan for the Western Snowy Plover Along the Oregon Coast

AGENCY: Fish and Wildlife Service, Interior.

ACTION: Notice of availability; receipt of application.

SUMMARY: The Oregon Parks and Recreation Department (OPRD) has submitted an application to the U.S. Fish and Wildlife Service (Service) for an incidental take permit (permit) pursuant to section 10(a)(1)(B) of the Endangered Species Act of 1973, as amended (ESA). As required by section 10(a)(2)(B) of the ESA, OPRD has prepared a Habitat Conservation Plan (Plan) that describes proposed actions and measures they will implement to minimize and mitigate take of the threatened western snowy plover (Charadrius alexandrinus nivosus). The permit application is related to public use and recreation, beach management, and resource management activities along Oregon's coast. The application includes the proposed Plan and a proposed Implementation Agreement (IA). The Service also announces the availability of a draft Environmental Impact Statement (DEIS) that has been prepared in response to the permit application in accordance with the requirements of the National Environmental Policy Act (NEPA). The Service is considering issuing a 25-year permit to the OPRD. The requested permit would authorize OPRD to engage in activities related to public use and recreation, beach management, and resource management activities that may result in the incidental take of the western snowy plover.

We request comments from the public on the permit application, the Plan, the IA, and the DEIS, all of which are available for review. The Service is furnishing this notice to allow other agencies and the public an opportunity to review and comment on these documents. All comments received will become part of the public record and will be available for review pursuant to section 10(c) of the ESA. For locations to review the documents, please see the SUPPLEMENTARY INFORMATION section below.

DATES: Comments must be received from interested parties on or before January 4, 2008. Written comments may be sent by mail, facsimile, or e-mail to the addresses listed below.

ADDRESSES: All written comments should be addressed to: Laura Todd, U.S. Fish and Wildlife Service, Newport Field Office, 2127 SE OSU Drive, Newport, OR, 97365-5258; facsimile (541) 867-4551. Submit comments by e-mail to FW1ORDHCP@fws.gov. In the subject line of the e-mail include the identifier OPRD HCP DEIS.

SUPPLEMENTARY INFORMATION: You may view or download the draft Plan, draft IA, and DEIS on the Internet at http://www.fws.gov/oregonfwo/Species or egov.oregon.gov/OPRD/PLANS/osmp_hcp.shtml. The documents can also be reviewed by appointment at the above address during normal business hours or at the following libraries: Astoria Public Library, 450 Tenth St., Astoria, Oregon 97103; Bandon Public Library, City Hall, Hwy 101, Bandon, Oregon 97411; Chetco Community Public Library, 405 Alder St., Brookings, Oregon 97415; Coos Bay Public Library, 525 Anderson, Coos Bay, Oregon 97420; Siuslaw Public Library, 1460 9th St., Florence, Oregon 97439; Curry Public Library, 29775 Colvin St., Gold Beach, Oregon 97444; Manzanita Branch Library, 571 Laneda, Manzanita, Oregon 97130; Newport Public Library, 35 NW Nye St., Newport, Oregon 97365; Marilyn Potts Guin Library, Hatfield Marine Science Center, Oregon State University, 2030 Marine Science Drive, Newport, OR 97365; Port Orford Public Library, 555 W. 20th St., Port Orford, Oregon 97465; Reedsport Branch Library, 395 Winchester Ave., Reedsport, Oregon 97467; Seaside Public Library, 60 N Roosevelt Blvd., Seaside, Oregon 97138; Tillamook County Library, 1716 3rd St., Tillamook, Oregon 97141; and Warrenton Community Library, 225 S Main Ave., Warrenton, Oregon 97146.

FOR FURTHER INFORMATION CONTACT: For further information, or to receive copies of the documents on CD ROM, please contact Laura Todd at (541) 867-4558.

Background: Section 9 of the ESA (16 U.S.C. 1538) and implementing regulations prohibit the “take” of fish and wildlife species listed as endangered or threatened. The term “take” is defined under the ESA to mean harass, harm, pursue, hunt, shoot, wound, kill, trap, capture, or collect, or to attempt to engage in any such conduct (16 U.S.C. 1532). “Harm” is defined by Service regulation to include significant habitat modification or degradation where it actually kills or injures listed wildlife by significantly impairing essential behavioral patterns, including breeding, feeding, and sheltering (50 CFR 17.3(c)). However, under limited circumstances, the Service may issue permits to authorize ”incidental take” of listed species. Incidental take is defined by the ESA as take that is incidental to, and not the purpose of, carrying out an otherwise lawful activity. Regulations governing incidental take permits for threatened and endangered species are found at 50 CFR 17.32 and 17.22, respectively.

The OPRD has management responsibility on all Oregon coastal beaches, which extend approximately 230 miles, for such activities as public use and recreation, beach management conducted by OPRD staff, and natural resource management. These activities may result in the incidental take of the threatened western snowy plover (Charadrius alexandrinus nivosus). The OPRD has prepared a 25-year Plan that would address the incidental take of the western snowy plover caused by the above activities. This Plan forms the basis for OPRD's permit application to the Service and its implementation is discussed in the Service's DEIS.

Activities that the OPRD is proposing for permit coverage, and for which minimization and mitigation measures are described in the Plan, include:

1. Public Use/Recreation Management.

a. Dog-exercising.

b. Driving.

c. Kite-flying.

d. Non-motorized Vehicle Use.

e. Other Dry Sand Activities.

2. Beach Management.

a. Public Safety.

b. Law Enforcement.

c. Boat and Marine Mammal Strandings.

3. Natural Resource Management.

a. Snowy Plover Management.

b. Other Habitat Restoration.

The Service formally initiated an environmental review of the proposed permit decision through publication of a Notice of Intent to prepare an Environmental Impact Statement (68 FR 13720, March 20, 2003). That notice also announced a public scoping period during which interested parties were invited to provide written comments expressing their issues or concerns relating to the proposal. In a letter jointly signed by the OPRD and the Service, agencies and the public were notified of the opportunity to comment, and of the dates and locations of upcoming public meetings. Information regarding the public meetings was also posted on the OPRD's Web site. In March 2003, public meetings were held in Coos Bay, Newport, Tillamook, and Portland, Oregon.

Utilizing the public scoping comments, the Service prepared a DEIS to analyze the effects of alternatives on the human environment. Alternative 2 in the DEIS is implementation of OPRD's Plan, including issuance of a permit by the Service, and was developed in collaboration with the Oregon Department of Fish and Wildlife. Two other alternatives are analyzed in the DEIS: Alternative 1, No-Action, under which the OPRD would continue their ocean shore management activities with no issuance of a permit by the Service; and, Alternative 3, Management of Additional OPRD Sites, which would include management of three additional western snowy plover management areas than are included in Alternative 2.

The Service invites the public to comment on the Plan, DEIS, and draft IA during a 60-day comment period beginning on the date of this notice. The Service will evaluate the application, associated documents, and comments submitted thereon to determine whether the application meets the requirements of the ESA, and to prepare a Final Environmental Impact Statement (FEIS). Application requirements and issuance criteria for incidental take permits are found in 50 CFR 17.22(b). The Service decision regarding issuance of an incidental take permit will be made no sooner than 30 days after completion of the FEIS and the associated Record of Decision.

All comments received, including names and addresses, will become part of the administrative record and will be available for review pursuant to section 10(c) of the ESA. Anonymous comments will not be considered. All submissions from organizations or businesses, and from individuals identifying themselves as representatives or officials of organizations or businesses, are available for public inspection in their entirety.

Before including your address, phone number, e-mail address, or other personal identifying information in your comment, you should be aware that your entire comment—including your personal identifying information—may be made publicly available at any time. If you wish us to withhold your name and/or address, you must state this prominently at the beginning of your comment. While you can ask us to withhold your personal identifying information from public review, we cannot guarantee that we will be able to do so. We will honor your request to withhold your personal information to the extent allowable by law.

This notice is provided pursuant to section 10(c) of the ESA and Service regulations for implementing NEPA, as amended (40 CFR 1506.6). If we determine that all requirements are met, we will issue an incidental take permit under section 10(a)(1)(B) of the ESA to the OPRD for take of the western snowy plover, incidental to otherwise lawful activities, in accordance with the Plan, the IA, and the permit.

Cynthia U. Barry,
Acting Deputy Regional Director, Region 1, U.S. Fish and Wildlife Service.

[FR Doc. E7-21670 Filed 11-2-07; 8:45 am]

BILLING CODE 4310-55-P